DEPARTMENT OF TRANSPORTATION

Federal Transit Administration

Competitive Funding Opportunity: Accelerating Innovative Mobility (AIM) Challenge Grants

AGENCY: Federal Transit Administration (FTA), U.S. Department of Transportation (DOT).

ACTION: Notice of funding opportunity (NOFO).

SUMMARY: The Federal Transit Administration (FTA) announces the opportunity to apply for $11 million in fiscal year (FY) 2019 research funds for Accelerating Innovative Mobility (AIM) Challenge Grants in the form of cooperative agreements for eligible projects. AIM Challenge Grants are part of FTA's new AIM Initiative to foster innovative transit technologies, practices and solutions that incentivize travelers to choose public transportation, promote economic development in communities, and enhance public/private partnerships to improve personal mobility. FTA will competitively award AIM Challenge Grants for projects that can accelerate the development, implementation and adoption of innovative technologies, practices, and service models to improve mobility and enhance the rider experience, with a focus on innovative service delivery models, creative financing, novel partnerships, and integrated payment solutions.

The AIM Initiative also includes the launch of a national network of innovative transit agencies, or AIM Incubators, to test new mobility solutions and broadly share the results with the public transit industry. AIM Challenge Grant recipients selected through this Notice of Funding Opportunity (NOFO) will be designated as the inaugural class of AIM Incubators.

The FTA may award additional funds, if they are made available to the program prior to the announcement of project selections.

DATES: Complete proposals must be submitted electronically through the GRANTS.GOV “APPLY” function by 11:59 p.m. Eastern Time on April 17, 2020. Prospective applicants should initiate the process by promptly registering on the GRANTS.GOV website to ensure completion of the application process before the submission deadline. Instructions for applying can be found on FTA's website at http://transit.dot.gov/howtoapply and in the “FIND” module of GRANTS.GOV.

The GRANTS.GOV funding opportunity ID is FTA-2020-012-TRI-AIM. Mail and fax submissions will not be accepted.

FOR FURTHER INFORMATION CONTACT: Please send any questions regarding this notice to FTA's Research office via email at AIMChallenge@dot.gov. For other questions contact Ms. Christina Gikakis, Office of Mobility Innovation, 202-366-2637, or christina.gikakis@dot.gov. A Telecommunication Device for the Deaf (TDD) is available for individuals who are deaf or hard of hearing at 202-366-3993. In addition, FTA will post answers to questions and requests for clarifications as well as information about webinars FTA will host to provide further guidance at www.transit.dot.gov/AIM.

SUPPLEMENTARY INFORMATION: This notice contains information and instructions relevant to the application process for AIM Challenge Grants. All applicants should read this notice in its entirety to obtain the information needed to submit an eligible and competitive application.

Table of Contents

A. Program Description

B. Federal Award Information

C. Eligibility Information

D. Application and Submission Information

E. Application Review Information

F. Federal Award Administration Information

G. Federal Awarding Agency Contacts

A. Program Description

Under FTA's Public Transportation Innovation program (49 U.S.C. 5312) FTA may make grants, or enter into contracts or cooperative agreements, for research, development, demonstration and deployment projects of national significance to public transportation agencies that the Secretary determines will improve public transportation service. The AIM Challenge Grants has been developed under this authority.

The AIM Challenge Grants are part of FTA's new AIM Initiative to foster innovative transit technologies, practices and solutions that incentivize travelers to choose public transportation, promote economic development in communities, and enhance public/private partnerships to improve personal mobility. Further, the AIM Initiative seeks to ensure these new technologies or practices permit interoperability across systems and modes. The AIM Initiative also seeks to harness Federal, local and private sector investments in transportation and mobility innovations. The FTA, in collaboration with the public transportation industry, has invested significant resources in advancing the state of the practice as well as developing and demonstrating technologies and practices to make public transportation safer, more effective and efficient. The transportation sector and rider expectations have evolved, with more options and capabilities now available.

The FTA seeks applications for AIM Challenge Grant projects from public transportation-led teams that can accelerate the development and adoption of innovative technologies, practices, and service models to improve mobility and enhance the rider experience, with a focus on innovative service delivery models, creative financing, novel partnerships, and integrated payment solutions. AIM Challenge Grant recipients selected through this NOFO will be designated as the inaugural class of AIM Incubators, a national network of innovative transit agencies that test new mobility solutions and broadly share the results with industry. The FTA provides this funding opportunity based on the traditional challenge grant concept of achieving specific innovation goals and using that achievement to spotlight a grantee (i.e., AIM Incubators) and disseminate proven innovative mobility practice(s) in the public transportation industry.

To that end, the goals of the AIM Challenge Grants are to:

• Explore and validate forward-thinking approaches to improve transit system design, service, and financing.

• Provide funding to transit agencies in all types of communities—urban, suburban, rural—to identify, test, and prove out new approaches, technologies and service models.

• Establish a national network of public transportation stakeholders that are incorporating innovative approaches and business models to improve mobility and that will share their project results.

• Identify and promote the most promising and effective innovations that can be implemented more broadly through FTA's capital programs.

The AIM Challenge Grants emphasize the Department's commitment to mobility innovation for all communities by incorporating principles of DOT's new Rural Opportunities to Use Transportation for Economic Success (R.O.U.T.E.S.) initiative. A strong transportation network is critical to the functioning and growth of the American economy. The nation's industry depends on the transportation network to move the goods that it produces, and facilitate the movements of the workers who are responsible for that production. When the nation's highways, railways, and ports function well, that infrastructure connects people to jobs, increases the efficiency of delivering goods and thereby cuts the costs of doing business, reduces the burden of commuting, and improves overall well-being.

Rural transportation networks play a vital role in supporting our national economic vitality. Addressing the deteriorating conditions and disproportionately high fatality rates on our rural transportation infrastructure is of critical interest to the Department, as rural transportation networks face unique challenges in safety, infrastructure condition, and passenger and freight usage. Consistent with the R.O.U.T.E.S. Initiative, FTA encourages applicants to consider how the project will address the challenges faced by rural areas.

The FTA will seek to fund multiple AIM Challenge Grant projects that are aligned with the following key underlying principles:

• Test innovative technologies, practices, approaches, or service models that can produce outcomes and knowledge of national significance and advance the state of the practice for public transportation in the U.S.

• Create a portfolio of projects that consider the needs of different types of communities and advance technology innovations, practices and/or partnership models that resonate and are adoptable by all transit agencies, including those that serve rural areas.

• Leverage private sector innovation to improve mobility through novel public private partnerships.

• Advance robust, replicable transit-led business models, and sustainable public private partnerships that enable expanded opportunities for innovation beyond the AIM Challenge Grants.

• Support the concept of the complete trip to ensure all travelers benefit from improved mobility regardless of their location, age, income, or abilities.

B. Federal Award Information

This notice makes available $11 million under the Public Transportation Innovation Program, 49 U.S.C. 5312(b), to support the research, development, demonstration, and deployment and evaluation of research and technology of national significance to transit, that the Secretary of Transportation determines will improve public transportation.

There is no minimum or maximum grant award amount. Only proposals from eligible recipients for eligible activities will be considered for funding. Due to funding limitations, proposers that are selected for funding may receive less than the amount originally requested. In those cases, applicants must be able to demonstrate that the proposed project is still viable and can be completed with the amount awarded.

Project recipients selected for funding under AIM Challenge Grants also will be designated as AIM Incubators. Applicants may use no more than $50,000 of the Federal project funds awarded as part of their AIM Challenge Grant to support AIM incubator activities, such as peer outreach and knowledge transfer.

Recipients of the previous FTA mobility innovations demonstration programs, including Integrated Mobility Innovation (IMI) and Mobility on Demand (MOD) Sandbox demonstrations recipients, may apply for funding for additional projects. As FTA is seeking to promote new innovative service models to increase the efficiency and effectiveness of transit, applicants should demonstrate the extent to which the newly proposed project is indeed a new effort. If the proposed project is a continuation of a prior project, the applicant should describe how the concept has evolved since it was first implemented.

Funds under this notice cannot be used to reimburse recipients for otherwise eligible expenses incurred prior to FTA award of a Grant Agreement or Cooperative Agreement unless FTA has issued pre-award authority for selected projects. AIM Challenge Grant projects are research and development efforts and, as such, FTA Research Circular 6100.1E (available at www.transit.dot.gov/regulations-and-guidance/fta-circulars/research-technical-assistance-and-training-program) rules will apply in administering the program.

C. Eligibility Information

To be selected for the AIM Challenge Grants, an applicant must be an Eligible Applicant and the project must be an Eligible Project as defined below.

1. Eligible Applicants

Eligible applicants under this notice are providers of public transportation, including public transportation agencies, state/local government DOTs, and federally recognized Indian tribes. Eligible applicants may identify one or more strategic project partner(s) with a substantial interest and involvement in the project. Applications must clearly identify the eligible applicant and all project partners on the project team.

Eligible project partners under this program may include, but are not limited to:

• Private for-profit and not-for-profit organizations, including shared-use mobility providers, technology system suppliers and integrators, automated vehicle technology providers, property managers and developers, and others;

• private operators of transportation services, such as employee shuttle services, airport connector services, university transportation systems, or parking and tolling or airports authorities;

• other operators of public transportation, including public transportation agencies, State/local government DOTs, and Federally recognized Indian tribes.

• bus or vehicle manufacturers or suppliers;

• banking or financial institutions;

• State or local government entities, including multi-jurisdictional partnerships, and organizations such as a Metropolitan Planning Organization; or

• other organizations including research consortia or not-for-profit industry organizations, institutions of higher education, and others.

The project team should include all project partners necessary to successfully carry out the prospective project, and be structured to best leverage Federal funds.

The applicant must be able to carry out the proposed agreement and procurements, if needed, with project partners in compliance with all applicable Federal, State, and local laws.

Key partners can be designated by applicants that share the costs, risks, and rewards of early deployment, demonstration and operation of innovative projects. The FTA also may determine that any identified project partner in the proposal is a key partner and make any award conditional upon the participation of that key partner. A key partner is essential to the project as approved by FTA and, therefore, is eligible for a noncompetitive award by the applicant to provide the goods or services described in the application. The applicant must clearly indicate whether each partner is a key partner. A key partner's participation on a selected project may not be substituted later without FTA's approval.

To be considered eligible, applicants must be able to demonstrate the requisite legal, financial, and technical capabilities to receive and administer Federal funds under this program.

2. Cost Sharing or Matching

The Federal share of project costs under this program is limited to 80 percent. Applicants may seek a lower Federal contribution. The applicant must provide the local share of the net project cost in cash, or in-kind, and must document in its application the source of the local match. Eligible sources of local match are detailed in FTA Research Circular 6100.1E. (available at www.transit.dot.gov/regulations-and-guidance/fta-circulars/research-technical-assistance-and-training-program).

3. Eligible Projects

This notice solicits applications for AIM Challenge Grant projects that demonstrate innovative technologies, applications, practices, and/or service models that can lead to more efficient public transportation service, better mobility for individuals, and enhance the overall rider experience, with special emphases on innovative service delivery models, creative financing, novel partnerships and integrated payment solutions. Applicants are also encouraged to submit applications with other innovative models and ideas that may not fall into one of these areas.

To help shape AIM Challenge Grants, the following list provides some examples of innovative technologies, practices and solutions for consideration. Please note that the list is provided for examples only, and not meant to be exhaustive or prescriptive.

• Integrated scheduling, reservation, and payments across all mobility providers in a region.

• Innovative dynamic mobility hubs in rural areas.

• Innovative data tools to predict movement of all travelers on a transportation network to target transit services and provide more comprehensive traveler information.

• New operational models of bus service that are more flexible, better integrated into the community, and more appealing.

• Emerging approaches or technologies that enable access for all populations to take advantage of mobility advances, including older Americans, school-aged populations traveling independently, and persons with disabilities.

• Innovative projects to demonstrate market-ready or near market-ready transit automation for revenue service.

• Novel partnerships with private, public, or nonprofit entities that connect riders to high-demand services or destinations.

Eligible activities include all activities leading to the development and testing of innovative mobility, such as planning and developing business models, obtaining equipment and service, acquiring or developing software and hardware interfaces to implement the project, operating or implementing the new service model, and evaluating project results. Transit agencies selected for AIM Challenge Grants awards will be designated as AIM Incubators, and will serve as experts and provide support to other agencies seeking to improve transit service and mobility in their communities, through activities such as peer exchanges and knowledge sharing. AIM Incubator activities are eligible and required activities under the AIM Challenge Grants up to the funding previously established.

4. Project Timelines

Projects funded under the AIM Challenge Grants will be allowed a maximum of 12 months for project planning. Project innovations or demonstration of new business models should be fully launched within 12 months of award.

D. Application and Submission Information

1. Address To Request Application Package

Instructions for applying can be found on the FTA website at http://transit.dot.gov/howtoapply. Applications must be submitted electronically through GRANTS.GOV. General information for submitting applications through GRANTS.GOV can be found at www.transit.dot.gov/howtoapply along with specific instructions for the forms and attachments required for submission. Mail and fax submissions will not be accepted.

2. Content and Form of Application Submission

Addressing the deteriorating conditions and disproportionately high fatality rates on our rural transportation infrastructure is of critical interest to the Department, as rural transportation networks face unique challenges in safety, infrastructure condition, and passenger and freight usage. Consistent with the R.O.U.T.E.S. Initiative, the Department will consider how the project will address the challenges faced by rural areas.

A complete proposal submission consists of two forms: the SF-424 Application for Federal Assistance (available at GRANTS.GOV) and the supplemental form for the 2020 AIM Challenge Grants (downloaded from GRANTS.GOV or the FTA website at www.transit.dot.gov/AIM).

A complete application must include responses to all sections of the SF-424 Application for Federal Assistance and the supplemental form. The information on the supplemental form will be used to determine applicant and project eligibility for the program, and to evaluate the proposal against the selection criteria described in part E of this notice. Applicants may attach additional supporting information to the SF-424 submission, including but not limited to letters of support, project budgets, or excerpts from relevant planning documents. Supporting documentation must be described and referenced by file name in the appropriate response section of the supplemental form, or it may not be reviewed.

Information such as applicant name, Federal amount requested, local match amount, description of areas served, etc., may be requested in varying degrees of detail on both the SF-424 form and supplemental form. An applicant must fill in all fields unless stated otherwise on the forms. If copying information into the supplemental form from another source, the applicant should verify that the supplemental form has fully captured pasted text and that it has not truncated the text due to character limits built into the form. An applicant should use both the “Check Package for Errors” and the “Validate Form” validation buttons on both forms to check all required fields on the forms. An applicant should also ensure that the Federal and local amounts specified are consistent throughout the application.

The SF-424 Mandatory Form and the supplemental form will prompt applicants for the required information, including:

a. Applicant name.

b. Dun and Bradstreet (D&B) Data Universal Numbering System (DUNS) number.

c. Key contact information (including contact name, address, email address, and phone).

d. Congressional district(s) where project will take place.

e. Project information (including title, an executive summary, and type).

f. Information on areas served by project (i.e., indicate urban, rural, or both) including current state of public transportation and mobility in the area served.

g. A description of the need for the project (research need or opportunity project addresses).

h. A description of all innovative technologies, practices or business models proposed as part of the project scope.

i. Evidence on how the project will support the AIM Challenge Grants goals and underlying principles as described in Section A of this NOFO “Program Description,” and the overall significance of the project to advancing mobility innovation.

j. A description of how the proposed project would address the unique challenges facing rural transportation networks, regardless of the geographic location of those activities.

k. Details on any partners, their roles and anticipated contributions. Indicate which partners are “key partners” essential to the success of the proposed project. Indicate which partners provided letter of commitment that are attached to the application.

l. A description of the overall project implementation strategy.

m. A description of how the applicant will fulfill the role of AIM Incubator, and activities that it will undertake.

n. A description of how the project will be evaluated and any details on the types of data that will be generated and how the project team will provide access for FTA or its designee to this project-related data for purposes of evaluation.

o. Project budget.

p. Project timeline.

q. Evidence that the applicant can provide the local cost share.

r. A description of the technical, legal and financial capacity of the applicant, and team members to successfully implement project.

s. An explanation of the scalability of the project.

t. Whether the project impacts an Opportunity Zone, designated pursuant to 26 U.S.C. 1400Z-1.

3. Unique Entity Identifier and System for Award Management (SAM)

Each applicant is required to: (1) Be registered in SAM before submitting an application; (2) provide a valid unique entity identifier in its application; and (3) continue to maintain an active SAM registration with current information at all times during which the applicant has an active Federal award or an application or plan under consideration by FTA. These requirements do not apply if the applicant has an exemption approved by FTA under Federal grants and agreements Uniform Guidance (2 CFR 25.110(d)). FTA may not make an award until the applicant has complied with all applicable unique entity identifier and SAM requirements. If an applicant has not fully complied with the requirements by the time FTA is ready to make an award, FTA may determine that the applicant is not qualified to receive an award and use that determination as a basis for making a Federal award to another applicant. All applicants must provide a unique entity identifier provided by SAM. SAM registration takes approximately 3-5 business days, but FTA recommends allowing ample time, up to several weeks, for completion of all steps. For additional information on obtaining a unique entity identifier, please visit www.sam.gov.

4. Submission Dates and Times

Project proposals must be submitted electronically through GRANTS.GOV by 11:59 p.m. Eastern Time on April 17, 2020. Mail and fax submissions will not be accepted. FTA urges applicants to submit applications at least 72 hours prior to the due date to allow time to correct any problems that may have caused either GRANTS.GOV or FTA systems to reject the submission. Proposals submitted after the deadline will only be considered under extraordinary circumstances not under the applicant's control. Deadlines will not be extended due to scheduled website maintenance. GRANTS.GOV scheduled maintenance and outage times are announced on the GRANTS.GOV website.

Within 48 hours after submitting an electronic application, the applicant should receive an email message from GRANTS.GOV with confirmation of successful transmission to GRANTS.GOV. If a notice of failed validation or incomplete materials is received, the applicant must address the reason for the failed validation, as described in the email notice, and resubmit before the submission deadline. If making a resubmission for any reason, applicants must include all original attachments regardless of which attachments were updated and check the box on the supplemental form indicating this is a resubmission.

Applicants are encouraged to begin the process of registration on the GRANTS.GOV site well in advance of the submission deadline. Registration is a multi-step process, which may take several weeks to complete before an application can be submitted. Registered applicants may still be required to take steps to keep their registration up to date before submissions can be made successfully: (1) Registration in the System for Award Management (SAM) is renewed annually; and, (2) persons making submissions on behalf of the Authorized Organization Representative (AOR) must be authorized in GRANTS.GOV by the AOR to make submissions.

5. Funding Restrictions

Funds under this NOFO cannot be used to reimburse applicants for otherwise eligible expenses incurred prior to FTA award of a grant agreement until FTA has issued pre-award authority for selected projects.

6. Other Submission Requirements

The FTA encourages applicants to identify scaled funding options in case insufficient funding is available to fund a project at the full requested amount. If an applicant indicates that a project is scalable, the applicant must provide an appropriate minimum funding amount that will fund an eligible project that achieves the objectives of the program and meets all relevant program requirements. The applicant must provide a clear explanation of how a reduced reward would affect the project budget. The FTA may award a lesser amount regardless of whether the applicant provides a scalable option.

E. Application Review Information

The FTA will evaluate project proposals for AIM Challenge Grants based on the criteria described in this notice. Projects will be evaluated primarily on the responses provided in the supplemental form. Additional information may be provided to support the responses; however, any additional documentation must be directly referenced on the supplemental form, including the file name where the additional information can be found.

1. Criteria

Project proposals will be evaluated by FTA per the following six selection criteria. FTA strongly encourages each applicant to demonstrate the responsiveness of a project to all criteria shown below with the most relevant information that the applicant can provide. The selection criteria are as follows:

a. Demonstration of Innovation

The FTA is seeking projects that address innovation related to exploring and testing new technologies, practices, approaches or business models for public transportation that can lead to greater operational efficiency, greater personal mobility, more efficient operations, or insights into new system design, service, financing or partnering mechanisms. Projects should clearly identify a specific innovative premise which serves a need, the proposed project approach to addressing the need, and how the proposed project will provide outcomes or new insights that expand the public transportation industry's understanding of new mobility innovations. The FTA will assess the extent to which the applicant uses innovative strategies, including (i) innovative technologies, (ii) innovative financing, and/or (iii) innovative operations and identifies specific needs in the area of mobility innovation that can produce outcomes and knowledge of national significance and advance the state of the practice for public transportation in the U.S.

b. Demonstration of Benefit

The application should demonstrate the utility of the proposed project to accelerate the transit industry's ability to implement new technologies, operational innovations, approaches or service models that support FTA's AIM Challenge Grants goals, and are consistent with the AIM Challenge Grants guiding principles, as detailed in this NOFO.

The FTA will evaluate proposals based on their capacity to accelerate the development and adoption of innovative technologies, practices, and service models to improve mobility and enhance the rider experience. There will be a focus on innovative service delivery models, creative financing, novel partnerships, and integrated payment solutions.

The FTA will consider the extent to which each proposal explores innovative technologies, practices, approaches or service models that produce outcomes and knowledge of national significance and advance the state of the practice for public transportation in the U.S; advances technologies, innovations, practices or partnership models that resonate with all transit agencies, including those in rural areas; leverages private sector innovation; advances robust, replicable business models, and sustainable public private partnerships; and ensures that all travelers benefit from enhanced mobility regardless of location, age, income, or abilities.

c. Planning and Partnerships

For applications that include project partners, applicants must detail all project partners and their specific role. The FTA will evaluate the extent to which the project contains strong, cohesive partnerships and the collaboration necessary to successfully implement the proposed project. Applications should describe how project partners plan to work collaboratively and should show evidence of strong commitment and cooperation among project partners through letters of support or agreements among the partners. Applications should describe how partners will participate in each aspect of project planning, implementation and evaluation. The FTA also will evaluate the experience, capacity, and demonstrated partnership commitment of the named project partners as pertains to successful implementation of the proposed project. Applicants are advised to submit information on the partners' qualifications and experience as a part of the application, and documentation of their commitment to the project.

Any project partner can be designated by the applicant as a key partner that shares the costs, risks, and rewards of early deployment and demonstration of innovation. The applicant must explicitly indicate whether each partner is a key partner. A key partner's participation on a selected project may not be substituted later without FTA's approval. Entities who are involved in the project but not named in the application will be required to be selected through a competitive procurement.

d. Local Financial Commitment

The FTA will fund up to 80 percent of the net project cost; a local share of at least 20 percent of the net project cost is required. Applicants must identify the source of the local cost share and describe whether such funds are currently available for the project or will need to be secured if the project is selected for funding. The FTA will consider the availability of the local cost share as evidence of local financial commitment to the project. Additional consideration will be given to those projects for which local funds have already been made available or reserved. Applicants should submit evidence of the availability of funds for the project, for example by including a board resolution, letter of support from the State or other documentation of the source of local funds such as a budget document highlighting the line item or section committing funds to the proposed project. In addition, as evidence of local financial commitment, an applicant may propose a local cost share that is greater than the minimum requirement.

e. Project Implementation Strategy

Projects will be evaluated based on the extent to which the project is ready to start within a reasonable period of time and whether the applicant's proposed implementation plans are reasonable and complete, with project innovations or demonstration of new business models fully launched within 12 months of award.

In assessing whether the proposed implementation plans are reasonable and complete, FTA will review the proposed project implementation plan, including all necessary project milestones and the overall project timeline. The FTA will consider if the project's implementation strategy addresses how the project will support FTA's independent project evaluation efforts, data access and sharing of project results, project evaluation against mobility-specific metrics, and the AIM Incubator efforts.

For projects that will require formal coordination, approvals or permits from other agencies or project partners, the applicant must demonstrate coordination with these organizations and their support for the project, such as through letters of support. The FTA also will consider the risks to project implementation, and the extent to which the project implementation strategy addresses these risks.

f. Technical, Legal, and Financial Capacity

The FTA will evaluate proposals on the capacity of the lead agency and any partners to successfully execute the project. The FTA may review relevant oversight assessments and records to determine whether there are any outstanding legal, technical or financial issues with the applicant that would affect the outcome of the proposed project. Applicants with outstanding legal, technical or financial compliance issues from an FTA compliance review or Federal Transit grant-related Single Audit finding must explain how corrective actions taken will mitigate negative impacts on the proposed project.

For applications that include named project partners, FTA will also consider the technical, legal and financial capacity of the partner to successfully implement the proposed project. Applicants are advised to submit information on the partners' qualifications and experience as a part of the application.

2. Review and Selection Process

A technical evaluation panel comprising FTA and other Departmental and/or Federal agency staff will review project proposals against the selection criteria listed above. The technical evaluation committee may seek clarification from any applicant about any statement made in a proposal. The FTA also may request additional documentation or information to be considered during the evaluation process. After the evaluation of all eligible proposals, the technical evaluation committee will provide project recommendations to the FTA Administrator. The FTA Administrator will determine the final list of project selections, and the amount of funding for each project. Geographic diversity, diversity of project type, the applicant's receipt of other Federal funding, and projects located in or that support public transportation service in a qualified opportunity zone designated pursuant to 26 U.S.C. 1400Z-1 may be considered in FTA's award decisions. The FTA may prioritize projects proposed with a higher local share.

In addition to the criteria and considerations outlined in this section, the FTA Administrator will consider the following key Departmental objectives:

• Supporting economic vitality at the national and regional level;

• Leveraging Federal funding to attract other, non-federal sources of investment, including value capture;

• Using innovative approaches to improve safety and expedite project delivery; and,

• Holding grant recipients accountable for their performance and achieving specific, measurable outcomes identified by grant applicants.

Addressing the deteriorating conditions and disproportionately high fatality rates on our rural transportation infrastructure is of critical interest to the Department, as rural transportation networks face unique challenges in safety, infrastructure condition, and passenger and freight usage. Consistent with the R.O.U.T.E.S. Initiative, the Department will consider how the project will address the challenges faced by rural areas.

Prior to making an award, FTA is required to review and consider any information about the applicant that is in the Federal Awardee Performance and Integrity Information Systems accessible through SAM. An applicant may review and comment on information about itself that a Federal awarding agency previously entered. FTA may consider any comments by the applicant, in addition to the other information in the designated integrity and performance system, in making a judgment about the applicant's integrity, business ethics, and record of performance under Federal awards when completing the review of risk posed by applicants as described in the Office of Management and Budget's Uniform Requirements for Federal Awards (2 CFR 200.205).

F. Federal Award Administration Information

1. Federal Award Notice

The FTA Administrator will announce the final project selections on the FTA website. At the time the project selections are announced, FTA may extend pre-award authority for the selected projects. There is no blanket pre-award authority for the selected projects before announcement.

2. Administrative and National Policy Requirements

a. Pre-Award Authority

The FTA will issue specific guidance to recipients regarding pre-award authority at the time of selection. FTA does not provide pre-award authority for discretionary funds until projects are selected, and even then, there are Federal requirements that must be met before reimbursable costs are incurred. For more information about FTA's policy on pre-award authority, please see the FY 2019 Apportionment Notice published on July 3, 2019 which can be accessed at www.govinfo.gov/content/pkg/FR-2019-07-03/pdf/2019-14248.pdf.

b. Grant Requirements

If selected, awardees will apply for a cooperative agreement through FTA's Transit Award Management System (TrAMS). All recipients must follow the requirements of FTA Research Circular 6100.1E. Technical assistance regarding these requirements is available from FTA.

c. Buy America

Federal transit law requires that all capital procurements meet Buy America requirements, which require that all iron, steel, or manufactured products be produced in the U.S., unless a waiver is granted. These requirements help create and protect manufacturing jobs in the U.S. The Fixing America's Surface Transportation (FAST) Act (Pub. L. 114-94, Dec. 4, 2015) amended the Buy America requirements to provide for a phased increase in the domestic content for rolling stock. For FY 2020 and beyond, the cost of rolling stock components and subcomponents produced in the United States must be more than 70 percent of the cost of all components. There is no change to the requirement that final assembly of rolling stock must occur in the United States. The FTA issued guidance on the implementation of the phased increase in rolling stock domestic content on September 1, 2016. A copy of the policy guidance may be found in 81 FR 60278 (September 1, 2016), www.govinfo.gov/content/pkg/FR-2016-09-01/pdf/2016-21007.pdf. Information for other, non-rolling stock, capital procurements is available on FTA's website www.transit.dot.gov/buyamerica. Any proposal that will require a waiver must identify the items for which a waiver will be sought in the application. Applicants should not proceed with the expectation that waivers will be granted, nor should applicants assume that selection of a project under the AIM Initiative that includes a partnership with a manufacturer, vendor, consultant, or other third party constitutes a waiver of the Buy America requirements applicable at the time the project is undertaken.

d. Disadvantaged Business Enterprise

The FTA requires that its recipients receiving planning, capital and/or operating assistance that will award prime contracts exceeding $250,000 in FTA funds in a Federal fiscal year comply with the Disadvantaged Business Enterprise (DBE) program regulations at 49 CFR part 26. Applicants should expect to include any funds awarded, excluding those to be used for vehicle procurements, in setting their overall DBE goal. Note, however, that projects including vehicle procurements remain subject to the DBE program regulations. The rule requires that, prior to bidding on any FTA-assisted vehicle procurement, entities that manufacture vehicles, or perform post-production alterations or retrofitting must submit a DBE Program plan and goal methodology to FTA. Further, to the extent that a vehicle remanufacturer is responding to a solicitation for new or remanufactured vehicles with a vehicle to which the remanufacturer has provided post-production alterations or retro-fitting (e.g., replacing major components such as an engine to provide a “like new” vehicle), the vehicle remanufacturer is considered a transit vehicle manufacturer and must also comply with the DBE regulations.

Grant recipients must verify each manufacturer's compliance with these requirements before accepting its bid. A list of compliant, certified transit vehicle manufacturers (TVMs) is posted on FTA's web page at www.fta.dot.gov/regulations-and-guidance/civil-rights-ada/eligible-tvms-list. Please note that this list is nonexclusive and recipients must contact FTA before accepting bids from entities not listed on this web-posting. Recipients may also establish project specific DBE goals for vehicle procurements. FTA will provide additional guidance as grants are awarded. For more information on DBE requirements, please contact Monica McCallum, Office of Civil Rights, 206-220-7519, email: monica.mccallum@dot.gov.

e. Standard Assurances

The applicant assures that it will comply with all applicable Federal statutes, regulations, executive orders, directives, FTA circulars, and other Federal administrative requirements in carrying out any project supported by the FTA grant. The applicant acknowledges that it is under a continuing obligation to comply with the terms and conditions of the grant agreement issued for its project with FTA. The applicant understands that Federal laws, regulations, policies, and administrative practices might be modified from time to time and may affect the implementation of the project. The applicant agrees that the most recent Federal requirements will apply to the project, unless FTA issues a written determination otherwise. The applicant must submit the Certifications and Assurances before receiving a grant if it does not have current certifications on file.

3. Other National Policy Requirements

a. Independent Evaluation

Projects funded under this announcement will be subject to evaluation by an independent evaluator selected by FTA. Recipients will be required to coordinate with the independent evaluator to assist in developing an evaluation plan and collecting, storing and managing data required to fulfill that evaluation plan.

b. Draft Mobility Metrics

Projects funded under this notice will be required to support the efforts of FTA or its designee to evaluate the project and its outcomes against mobility-specific metrics. FTA will work with the project team to implement evaluation plans that are consistent with FTA's draft models for Mobility Metrics.

c. Data Access and Data Sharing

All work conducted under the AIM Challenge Grants should make every attempt to follow USDOT data policies outlined in the DOT Public Access Plan (www.transportation.gov/mission/open/official-dot-public-access-plan-v11).

d. AIM Incubators and Knowledge Transfer

The AIM Initiative also includes efforts to launch a national network of innovative transit agencies, or AIM Incubators, to test new mobility solutions and share the results broadly with industry. AIM Challenge Grant recipients selected through this NOFO will be designated as the inaugural class of AIM Incubators. They will work through the FTA technical assistance program and provide ongoing outreach. Applicants selected for project awards must be willing to share project outcomes and methods with FTA and the larger public transportation community. Recipients may be asked to participate in information exchange meetings, webinars, or outreach events to support FTA's goal of advancing mobility innovations. Applicants should allocate a portion of their budgets, up to $50,000 of the Federal project budget, to support their work as AIM Incubators, which may include travel or presentations at key industry gatherings, peer exchanges and similar knowledge transfer activities.

4. Reporting

Post awards reporting requirements include electronic submission of Federal Financial Reports and Milestone Progress Reports in FTA's electronic grants management system.

G. Federal Awarding Agency Contacts

For further information concerning this notice, contact FTA Research office via email at AIMChallenge@dot.gov, or please contact Ms. Christina Gikakis, Office of Mobility Innovation, 202-366-2637, or christina.gikakis@dot.gov. A TDD is available for individuals who are deaf or hard of hearing at 202-366-3993. In addition, FTA will post answers to questions and requests for clarifications as well as information about webinars for further guidance at www.transit.dot.gov/AIM. To ensure applicants receive accurate information about eligibility or the program, the applicant is encouraged to contact FTA directly, rather than through intermediaries or third parties, with questions.

K. Jane Williams,
Acting Administrator.

[FR Doc. 2020-05611 Filed 3-17-20; 8:45 am]

BILLING CODE 4910-57-P